DEPARTMENT OF AGRICULTURE

Submission for OMB Review; Comment Request

The Department of Agriculture has submitted the following information collection requirement(s) to OMB for review and approval under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology Comments regarding these information collections are best assured of having their full effect if received by August 13, 2025. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Marketing Service

Title: Regional Food Business Centers.

OMB Control Number: 0581-0335.

Summary of Collection: The Regional Food Business Centers are authorized and funded by Section 1001(b)(4) of the American Rescue Plan Act of 2021 (Pub. L. 117-2). Under Section 1001(b)(4), the Secretary is directed to provide assistance for maintaining and improving food and agricultural supply chain resiliency. AMS will enter into cooperative agreements with the RFBCs.

The Regional Food Business Centers will be the backbone for local and regional supply chain development and will offer coordination, technical assistance, and capacity building support to small and mid-sized food and farm businesses which will lead to more resilient, diverse, and connected supply chains. This program will provide a way for geographic regions to tailor development and investment to fit their needs, while recognizing that resilient supply chains are built upon strong relationships between individuals, communities, regions, sectors, and institutions. The RFBCs will support coordination in their region, fund technical assistance (TA) providers to offer business technical assistance to food and farm businesses and provide small grants to food businesses looking to expand or start in their region.

Need and Use of the Information: The information collected is needed to certify that RFBCs are complying with applicable program regulations, and the data collected is the minimum information necessary to effectively carry out the requirements of the program. The information collection requirements in this request are essential to administer and evaluate the program and to provide the necessary technical assistance to RFBCs and their subrecipients.

The data collection will include the collection of application information, quarterly reports, in addition to biannual interviews and quantitative information related to RFBCs (awardees), the TA providers (sub-awardees) and the businesses they fund.

Description of Respondents: State, Local, and Tribal Governments.

Number of Respondents: 12.

Frequency of Responses: Reporting: Annually.

Total Burden Hours: 358.

Levi S. Harrell,
Departmental Information Collection Clearance Officer.

[FR Doc. 2025-13056 Filed 7-11-25; 8:45 am]

BILLING CODE 3410-02-P